NUCLEAR REGULATORY COMMISSION

[Docket No. 50-113; NRC-2009-0549]

Notice of Issuance of License Amendment Regarding Decommission Plan Approval; University of Arizona Research Reactor

The U.S. Nuclear Regulatory Commission (NRC) has issued the approval of the University of Arizona decommissioning plan (DP) by amendment to the Facility License R-52 for the University of Arizona Research Reactor (UARR). The UARR is located within the University of Arizona Nuclear Reactor Laboratory (NRL) on the 325-acre campus of the University of Arizona in Pima County, Arizona in the city of Tucson. The reactor was licensed for a steady state power of 110 kW (thermal), with a pulsing capability up to peak powers of approximately 650 MW. The reactor ceased operations on May 18, 2010. The UARR is a TRIGA pool-type reactor designed and constructed by General Atomic Division of General Dynamics Corporation (now GA Technologies of San Diego, California). TRIGA stands for Test, Research, Isotope production, General Atomics. The licensee submitted the UARR DP to the NRC in a letter dated May 21, 2009, as supplemented on March 26, 2010.

A document titled, “Notice and Solicitation of Comments Pursuant to Title 10 of the Code of Federal Regulations (10 CFR) Section 20.1405 and 10 CFR 50.82(b)(5) Concerning Proposed Action to Decommission the University of Arizona Research Reactor,” was published in the Federal Register on December 14, 2009 (74 FR 66173-66174). No comments were received following the notice.

The NRC staff prepared a safety evaluation report approving the University of Arizona's proposed decommissioning plan. Based on the NRC staff's review of the licensee's application for approval of decommissioning, the NRC staff finds that the proposed DP meets the requirements of 10 CFR 50.82(b)(4).

For details with respect to the licensee's application, see the licensee's letter dated May 21, 2009 (ML100620926, ML091490076), as supplemented by letter dated March 26, 2010 (ML100920089). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr.resource@nrc.gov.

Dated at Rockville, Maryland, this 15th day of April 2011.
For the Nuclear Regulatory Commission.
Jessie F. Quichocho,
Chief, Research and Test Reactors Licensing Branch, Division of Policy and Rulemaking, Office of Nuclear Reactor Regulation.

[FR Doc. 2011-10084 Filed 4-25-11; 8:45 am]

BILLING CODE 7590-01-P